POSTAL RATE COMMISSION

Sunshine Act Meeting

NAME OF AGENCY: Postal Rate Commission.

TIME AND DATE: July 26, 2001 at 8:30 a.m.

PLACE: Commission conference room, 1333 H Street, NW., Suite 300, Washington, DC, 20268-0001.

STATUS: Open.

MATTERS TO BE CONSIDERED: Discussion and vote on the Postal Rate Commission's fiscal year 2002 budget.

CONTACT PERSON FOR MORE INFORMATION: Steven W. Williams, acting secretary, Postal Rate Commission, 202-789-6840.

Dated: July 16, 2001.
Steven W. Williams,
Acting Secretary.

[FR Doc. 01-18110 Filed 7-16-01; 2:09 pm]

BILLING CODE 7710-FW-M